DEPARTMENT OF JUSTICE

Notice of Lodging of Consent Decree Pursuant to the Clean Water Act

Notice is hereby given that a proposed Consent Decree in San Diego Baykeeper v. United States Department of Defense, 02-CV-0499 IEG (AJB) (S.D. Cal.), was lodged with the United States District Court for the Southern District of California on May 16, 2003. The parties' settlement addresses alleged violations of the Clean Water Act at Marine Corps Base Camp Pendleton.

The proposed Consent Decree would require the Marine Corps to implement plans to upgrade its wastewater treatment facilities at Camp Pendleton to comply with the discharge requirements contained in its NPDES permits, to enhance its monitoring and reporting under those permits, and to reduce sanitary sewer overflows at the Base.

The United States Department of Justice will receive written comments relating to the proposed Consent Decree for a period of thirty (30) days from the date of publication of this notice. Comments should be addressed to Martha Mann, Attorney, United States Department of Justice, Environmental Defense Section, P.O. Box 23986, Washington, DC 20026-3986, and should refer to San Diego Baykeeper v. United States Department of Defense, 02-CV-0499 IEG (AJB) (S.D. Cal.).

The proposed Consent Decree may be examined at the Clerk's Office, United States District Court for the Southern District of California, 4290 Edward J. Schwartz Federal Building, 880 Front Street, San Diego, California, or at the following Web site: http://www.usdoj.gov/enrd/open.html.

Letitia J. Grishaw,
Chief, Environmental Defense Section, Environment and Natural Resources Division, Department of Justice.

[FR Doc. 03-14098 Filed 6-4-03; 8:45 am]

BILLING CODE 4410-15-M